CHEMICAL SAFETY AND HAZARD INVESTIGATION BOARD

Sunshine Act Meeting

TIME AND DATE: 10 a.m. CST, December 12, 2018.

PLACE: University of Wisconsin—Superior, Yellowjacket Union located at Belknap and Union Ave.

STATUS: Open to the public.

MATTERS TO BE CONSIDERED: The Chemical Safety and Hazard Investigation Board (CSB) will convene a public town hall meeting on Wednesday December 12, 2018, starting at 10:00 a.m. CST in the Yellowjacket Union located at Belknap and Union Ave at the University of Wisconsin—Superior. CSB investigative staff will present a factual update on the Husky Refinery fire which occurred on April 28, 2018. Staff presentations are preliminary and are intended to allow the Board to consider in a public forum the issues and factors involved in this case. The Board will provide an opportunity for public comment.

Additional Information

The meeting is free and open to the public. If you require a translator or interpreter, please notify the individual listed below as the Contact Person for Further Information, at least three business days prior to the meeting.

The CSB is an independent Federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. The public comments will be directed towards the board and facilitated by the Interim Executive. Speakers should assume that their presentations will be limited to three minutes or less, but commenters may submit written statements for the record.

CONTACT PERSON FOR MORE INFORMATION: Hillary Cohen, Communication Manager, at public@csb.gov or (202) 446-8094. Further information about the CSB and this public meeting can be found on the CSB website at: www.csb.gov.

Dated: November 19, 2018.
Raymond Porfiri,
Deputy General Counsel, Chemical Safety and Hazard Investigation Board.

[FR Doc. 2018-25534 Filed 11-19-18; 4:15 pm]

BILLING CODE 6350-01-P